DEPARTMENT OF STATE

[Public Notice: 12623]

Proposal To Extend the Cultural Property Agreement Between the United States and Chile

ACTION: Notice.

SUMMARY: Proposal to extend the Memorandum of Understanding Between the Government of the United States of America and the Government of the Republic of Chile Concerning the Imposition of Import Restrictions on Categories of Archaeological Material of Chile (“the Chile Agreement”).

FOR FURTHER INFORMATION CONTACT: Allison Davis Lehmann, Cultural Heritage Center, Bureau of Educational and Cultural Affairs: (202) 904-0878; culprop@state.gov; include “Chile” in the subject line.

SUPPLEMENTARY INFORMATION: Pursuant to the authority vested in the Principal Deputy Assistant Secretary of State for Educational and Cultural Affairs, and pursuant to 19 U.S.C. 2602(f)(1), an extension of the Chile Agreement is hereby proposed.

A copy of the Chile Agreement, the Designated List of categories of material currently restricted from import into the United States, and related information can be found at the Cultural Heritage Center website: https://culturalheritage.state.gov.

Allison R. Davis Lehmann,
Executive Director, Cultural Property Advisory Committee, Department of State.

[FR Doc. 2024-31256 Filed 12-27-24; 8:45 am]

BILLING CODE 4710-05-P